DEPARTMENT OF VETERANS AFFAIRS

Voluntary Service National Advisory Committee; Notice of Meeting

The Department of Veterans Affairs (VA) gives notice under the Federal Advisory Committee Act that the annual meeting of the Department of Veterans Affairs Voluntary Service (VAVS) National Advisory Committee (NAC) will be held May 1-3, 2019, at the Omni San Antonio Hotel at the Colonnade, 9821 Colonnade Boulevard, San Antonio, Texas. The meeting sessions will begin and end as follows:

Date: | Time:
May 1, 2019 | 9 a.m. to 11:30 a.m.
May 2, 2019 | 8:30 a.m. to 4:30 p.m.
May 3, 2019 | 8:30 a.m. to 3:30 p.m.

The meeting session are open to the public.

The Committee, comprised of fifty-one national voluntary organizations, advises the Secretary, through the Office of the Under Secretary for Health, on the coordination and promotion of volunteer activities and strategic partnerships within VA facilities, in the community, and on matters related to volunteerism and charitable giving. The purpose of these meetings are: To provide for Committee review of volunteer policies and procedures; to accommodate full and open communications between organization representatives and the Voluntary Service Office and field staff; to provide educational opportunities geared towards improving volunteer programs with special emphasis on methods to recruit, retain, place, motivate, and recognize volunteers; and to provide Committee recommendations. The May 1st session will include a National Executive Committee Meeting, Health and Information Fair, and VAVS Representative and Deputy Representative training session. The May 2nd business session will include welcoming remarks from local officials, and remarks by VA officials on new and ongoing VA initiatives and priorities. Educational workshops will be held in the afternoon and will focus on general post funds and gifts, telehealth, award writing, and leadership training. On May 3rd, the educational workshops will be repeated in the morning. The afternoon business session will include subcommittee reports, the Voluntary Service Report, NAC Chair Report, and remarks by VA officials on new and ongoing VA initiatives and priorities. The recipients of the American Spirit Recruitment Awards, VAVS Award for Excellence, and the NAC male and female Volunteer of the Year awards will be recognized. No time will be allocated at this meeting for receiving oral presentations from the public. However, the public may submit written statements for the Committee's review to Ms. Sabrina C. Clark, Designated Federal Officer, Voluntary Service Office (10B2A), Department of Veterans Affairs, 810 Vermont Avenue NW, Washington, DC 20420, or by email at Sabrina.Clark@va.gov. Any member of the public wishing to attend the meeting or seeking additional information should contact Ms. Clark at (202) 461-7300.

Dated: March 8, 2019.
Jelessa M. Burney,
Federal Advisory Committee Management Officer.

[FR Doc. 2019-04596 Filed 3-12-19; 8:45 am]

BILLING CODE P